DEPARTMENT OF AGRICULTURE

Animal and Plant Health Inspection Service

9 CFR Part 78

[Docket No. APHIS-2009-0083]

RIN 0579-AD22

Brucellosis Class Free States and Certified Brucellosis-Free Herds; Revisions to Testing and Certification Requirements

AGENCY: Animal and Plant Health Inspection Service, USDA.

ACTION: Final rule; technical amendment.

SUMMARY: In a final rule that was published in the Federal Register on November 10, 2014, and effective on December 10, 2014, we adopted, with changes, an interim rule that amended the brucellosis regulations to, among other things, reduce the age at which most cattle and domestic bison are included in herd blood tests. In that amendment we intended to include all sexually intact cattle and domestic bison 18 months of age or older in herd blood tests, however we inadvertently omitted the words “or older.” This document corrects that error.

DATES: Effective February 3, 2015.

FOR FURTHER INFORMATION CONTACT: Dr. Mike Carter, Assistant Director, Cattle Health Center, Surveillance, Preparedness and Response Services, VS, APHIS, 4700 River Road Unit 43, Riverdale, MD 20737-1231; (301) 851-3510.

SUPPLEMENTARY INFORMATION: In a final rule ¹ published in the Federal Register on November 10, 2014 (79 FR 66591-66597, Docket No. APHIS-2009-0083), with an effective date of December 10, 2014, we adopted, with changes, an interim rule ¹ that amended the brucellosis regulations in 9 CFR part 78 to, among other things, reduce the age at which most cattle and domestic bison are included in herd blood tests. In that document, we amended the interim rule by changing the age at which cattle and domestic bison are included in herd blood tests from 6 months to 18 months of age for all sexually intact cattle and domestic bison, except when conducting herd blood tests as part of affected herd investigations or other epidemiological investigations. In that amendment, we intended to include all sexually intact cattle and domestic bison 18 months of age or older in herd blood tests. While the language in the preamble makes this intention clear, we inadvertently omitted the words “or older” from the definition for herd blood test in § 78.1. We are correcting this omission in this technical amendment.

¹ To view the interim and final rules and related documents, go to http://www.regulations.gov/#!docketDetail;D=APHIS-2009-0083.

List of Subjects in 9 CFR Part 78

Animal diseases, Bison, Cattle, Hogs, Quarantine, Reporting and recordkeeping requirements, Transportation.

Accordingly, we are amending 9 CFR part 78 as follows:

PART 78—BRUCELLOSIS

1. The authority citation for part 78 continues to read as follows:

Authority: 7 U.S.C. 8301-8317; 7 CFR 2.22, 2.80, and 371.4.

§ 78.1 [Amended]

2. In § 78.1, the definition for herd blood test is amended by adding the words “or older” after the words “18 months of age”.

Done in Washington, DC, this 28th day of January 2015.
Kevin Shea,
Administrator, Animal and Plant Health Inspection Service.

[FR Doc. 2015-02024 Filed 2-2-15; 8:45 am]

BILLING CODE 3410-34-P